DEPARTMENT OF COMMERCE

National Oceanic and Atmospheric Administration

50 CFR Part 640

[Docket No. 110908576-1029-01]

RIN 0648-BB44

Spiny Lobster Fishery of the Gulf of Mexico and South Atlantic; Amendment 11

AGENCY: National Marine Fisheries Service (NMFS), National Oceanic and Atmospheric Administration (NOAA), Commerce.

ACTION: Proposed rule; request for comments.

SUMMARY: NMFS proposes regulations to implement Amendment 11 to the Fishery Management Plan for the Spiny Lobster Fishery of the Gulf of Mexico and South Atlantic (FMP), as prepared and submitted by the Gulf of Mexico and South Atlantic Fishery Management Councils (Councils). If implemented, this rule would limit spiny lobster fishing in certain areas in the exclusive economic zone (EEZ) off the Florida Keys to protect threatened species of corals. The intent of this proposed rule is to protect threatened coral colonies and address the requirements of a 2009 Endangered Species Act (ESA) biological opinion on the spiny lobster fishery.

DATES: Written comments must be received on or before June 14, 2012.

ADDRESSES: You may submit comments on the proposed rule identified by “NOAA-NMFS-2011-0223” by any of the following methods:

• Electronic submissions: Submit electronic comments via the Federal e-Rulemaking Portal: http://www.regulations.gov. Follow the “Instructions” for submitting comments.

• Mail: Susan Gerhart, Southeast Regional Office, NMFS, 263 13th Avenue South St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required field if you wish to remain anonymous).

To submit comments through the Federal e-Rulemaking Portal: http://www.regulations.gov, enter “NOAA-NMFS-2011-0223” in the search field and click on “search.” After you locate the document “Spiny Lobster Fishery of the Gulf of Mexico and South Atlantic; Amendment 11,” click the “Submit a Comment” link in that row. This will display the comment web form. You can then enter your submitter information (unless you prefer to remain anonymous), and type your comment on the web form. You can also attach additional files (up to 10MB) in Microsoft Word, Excel, WordPerfect, or Adobe PDF file formats only.

Comments received through means not specified in this rule will not be considered.

For further assistance with submitting a comment, see the “Commenting” section at http://www.regulations.gov/#!faqs or the Help section at http://www.regulations.gov.

Electronic copies of documents supporting this proposed rule, which include a draft supplemental environmental impact statement and a regulatory flexibility analysis, may be obtained from the Southeast Regional Office Web site at http://sero.nmfs.noaa.gov/sf/pdfs/Final_Spiny_Lobster_Amend_11_April_05_2012.pdf.

FOR FURTHER INFORMATION CONTACT: Susan Gerhart, telephone: 727-824-5305, or email: Susan.Gerhart@noaa.gov.

SUPPLEMENTARY INFORMATION: The spiny lobster fishery of the Gulf of Mexico (Gulf) and the South Atlantic is managed under the FMP. The FMP was prepared by the Councils and implemented through regulations at 50 CFR parts 622 and 640 under the authority of the Magnuson-Stevens Fishery Conservation and Management Act (Magnuson-Stevens Act).

Background

The ESA requires analyses to determine whether, and to what extent, fishing operations impact threatened species including threatened staghorn and elkhorn corals. A 2009 biological opinion on the continued authorization of the spiny lobster fishery contained specific terms and conditions required to implement the prescribed reasonable and prudent measures (http://sero.nmfs.noaa.gov/pr/esa/Fishery%20Biops/Final%20SL%20BO.pdf). The 2009 biological opinion requires NMFS and the Councils to work together to protect areas of staghorn and elkhorn coral. Required measures in the 2009 ESA biological opinion include (1) the creation of new or expansion of existing closed areas for lobster trap fishing where colonies of these threatened species are present, and (2) implementing spiny lobster trap line marking requirements. These actions were originally included in Amendment 10 to the FMP. However, in Amendment 10 to the FMP, the Councils chose to take no action on these measures to allow for additional stakeholder input.

Management Measures Contained in This Proposed Rule

This rule proposes to prohibit spiny lobster trap fishing in 60 closed areas that cover a total of 5.9 mi² (15.3 km²), distributed throughout the South Atlantic EEZ off the Florida Keys. Staff from the Councils and NMFS worked with various stakeholders to develop the proposed areas that would be closed to lobster trap gear. These areas were chosen to protect coral colonies with high conservation value and areas of high coral density. The proposed closed areas are intended to protect threatened coral species and meet the applicable requirements of the 2009 biological opinion.

Measure in Amendment 11 That Is Not Contained in This Rulemaking

Amendment 11 also contains an action to consider a spiny lobster trap line marking requirement. The Councils considered alternatives under this management action but chose to take no action at this time to allow time for additional testing of line marking methods. The Florida Fish and Wildlife Conservation Commission is currently conducting a study of various methods for marking lobster trap lines that should be completed during 2013. The Councils intend to revisit the requirement to mark spiny lobster trap gear when the results of that study are available. The biological opinion, as amended, requires implementation of the terms and conditions regarding lobster trap line marking by August 6, 2017.

Classification

Pursuant to section 304(b)(1)(A) of the Magnuson-Stevens Act, the NMFS Assistant Administrator has determined that this proposed rule is consistent with the amendment, other provisions of the Magnuson-Stevens Act, and other applicable law, subject to further consideration after public comment.

This proposed rule has been determined to be not significant for purposes of Executive Order 12866.

The Chief Counsel for Regulation of the Department of Commerce certified to the Chief Counsel for Advocacy of the Small Business Administration that this proposed rule, if adopted, would not have a significant economic impact on a substantial number of small entities. The factual basis for this determination is as follows.

The purpose of this proposed rule is to implement conservation measures to help protect threatened coral species in a manner that complies with measures established in the 2009 biological opinion on the spiny lobster fishery. The 2009 biological opinion was prepared in accordance with the ESA. The Magnuson-Stevens Act and the ESA provide the statutory basis for this proposed rule. No duplicative, overlapping, or conflicting Federal rules have been identified. This rule would not establish any new reporting or record-keeping requirements.

This proposed rule, if implemented, would be expected to affect all vessels that engage in commercial trap fishing for spiny lobster in certain parts of the South Atlantic EEZ off Monroe County, Florida, as managed under the FMP. Landings of spiny lobster occur predominantly in the Florida Keys (Monroe County) and elsewhere in south Florida. A relatively small amount of spiny lobster landings have been reported for other states in the Gulf and South Atlantic since 1977. Fishing for spiny lobster in Florida is managed cooperatively by the Councils and the State of Florida. Florida collects the data used to analyze spiny lobster activity in the commercial and recreational sectors.

Commercial and for-hire fishing vessels that fish for spiny lobster in state and Federal waters off Florida must have the applicable Florida permits/licenses. For commercial vessels that want to tail lobster in Federal waters, a Federal lobster tailing permit is additionally required. On average, during 2006-2010, 776 vessels per year landed spiny lobster commercially in Florida. These 776 vessels averaged $47,274 per vessel annually in gross revenue for all species landed, with $28,489 for spiny lobster, while the remainder of their revenue came from the harvest of other species including stone crab, snapper-grouper, king mackerel, and shrimp. Among the 776 vessels, 271 landed spiny lobster from the EEZ. Out of the 271 vessels landing spiny lobster from the EEZ, there were 128 vessels that landed spiny lobster from the Florida Keys within the South Atlantic EEZ using trap gear, and they averaged $98,845 in gross revenue per vessel.

The Small Business Administration has established size criteria for all major industry sectors in the U.S. including fish harvesters. A business involved in commercial shellfish harvesting is classified as a small business if it is independently owned and operated, is not dominant in its field of operation (including its affiliates), and has combined annual receipts not in excess of $4.0 million (NAICS code 114112, shellfish fishing) for all its affiliated operations worldwide. A for-hire business involved in fish harvesting is classified as a small business if it is independently owned and operated, is not dominant in its field of operation (including its affiliates), and has combined annual receipts not in excess of $7.0 million (NAICS code 713990, recreational industries). Based on the average revenue estimates provided above, all commercial and for-hire fishing vessels expected to be directly affected by this proposed rule are determined for the purpose of this analysis to be small business entities.

This proposed rule, if implemented, would prohibit the commercial harvest of spiny lobster using trap gear in certain areas of the South Atlantic EEZ off Florida (off Monroe County) to protect threatened species of coral. The commercial harvest of spiny lobster utilizing types of gear other than traps, notably diving gear, would not be prohibited through this proposed rule; however, the commercial harvest of spiny lobster using diving gear is estimated to be minimal in the proposed lobster trap gear closed areas. For-hire fishing for spiny lobster in the affected areas of the EEZ has not been quantified. For-hire activity is not subject to these proposed regulations; however, this activity could increase in the proposed closed areas as a result of the absence of commercial trap fishing.

For the approximately 128 vessels that land spiny lobster from the Florida Keys within the South Atlantic EEZ using trap gear, the proposed closure would reduce their gross revenue by an estimated 0.19 to 0.35 percent, annually. A reduction in gross revenue of .35 percent or less is generally not considered a significant economic impact. Because the reduction in gross revenue is the only anticipated economic impact from this action, the proposed closure would therefore not be expected to have a significant economic impact on the approximately 128 vessels that land spiny lobster from the Florida Keys within the South Atlantic EEZ using trap gear.

Because this action is not expected to have a significant impact on a substantial number of small entities, an initial regulatory flexibility analysis is not required and none has been prepared.

List of Subjects in 50 CFR Part 640

Fisheries, Fishing, Incorporation by reference, Reporting and recordkeeping requirements.

Dated: May 9, 2012.
Samuel D. Rauch III,
Acting Assistant Administrator for Fisheries, National Marine Fisheries Service.

For the reasons set out in the preamble, 50 CFR part 640 is proposed to be amended as follows:

PART 640—SPINY LOBSTER FISHERY OF THE GULF OF MEXICO AND SOUTH ATLANTIC

1. The authority citation for part 640 continues to read as follows:

Authority: 16 U.S.C. 1801 et seq.

2. In § 640.7, paragraph (y) is added to read as follows:

§ 640.7 Prohibitions.

* * * * *

(y) Fish for a spiny lobster using trap gear in the areas specified in § 640.22(b)(4).

3. In § 640.22, paragraph (b)(4) is added to read as follows:

§ 640.22 Gear and diving restrictions.

* * * * *

(b) * * *

(4) Fishing with spiny lobster trap gear is prohibited year-round in the following areas bounded by rhumb lines connecting, in order, the points listed.

(i) Lobster Trap Gear Closed Area 1.

Point | North lat. | West long.
A | 24°31′15.002″ | 81°31′00.000″
B | 24°31′15.002″ | 81°31′19.994″
C | 24°31′29.999″ | 81°31′19.994″
D | 24°31′29.999″ | 81°31′00.000″
A | 24°31′15.002″ | 81°31′00.000″

(ii) Lobster Trap Gear Closed Area 2.

Point | North lat. | West long.
A | 24°31′20.205″ | 81°30′17.213″
B | 24°31′17.858″ | 81°30′27.700″
C | 24°31′27.483″ | 81°30′30.204″
D | 24°31′29.831″ | 81°30′19.483″
A | 24°31′20.205″ | 81°30′17.213″

(iii) Lobster Trap Gear Closed Area 3.

Point | North lat. | West long.
A | 24°31′42.665″ | 81°30′02.892″
B | 24°31′45.013″ | 81°29′52.093″
C | 24°31′34.996″ | 81°29′49.745″
D | 24°31′32.335″ | 81°30′00.466″
A | 24°31′42.665″ | 81°30′02.892″

(iv) Lobster Trap Gear Closed Area 4.

Point | North lat. | West long.
A | 24°31′50.996″ | 81°28′39.999″
B | 24°31′50.996″ | 81°29′03.002″
C | 24°31′56.998″ | 81°29′03.002″
D | 24°31′56.998″ | 81°28′39.999″
A | 24°31′50.996″ | 81°28′39.999″

(v) Lobster Trap Gear Closed Area 5.

Point | North lat. | West long.
A | 24°32′20.014″ | 81°26′20.390″
B | 24°32′13.999″ | 81°26′41.999″
C | 24°32′27.004″ | 81°26′45.611″
D | 24°32′33.005″ | 81°26′23.995″
A | 24°32′20.014″ | 81°26′20.390″

(vi) Lobster Trap Gear Closed Area 6.

Point | North lat. | West long.
A | 24°32′30.011″ | 81°24′47.000″
B | 24°32′23.790″ | 81°24′56.558″
C | 24°32′45.997″ | 81°25′10.998″
D | 24°32′52.218″ | 81°25′01.433″
A | 24°32′30.011″ | 81°24′47.000″

(vii) Lobster Trap Gear Closed Area 7.

Point | North lat. | West long.
A | 24°32′46.834″ | 81°27′17.615″
B | 24°32′41.835″ | 81°27′35.619″
C | 24°32′54.003″ | 81°27′38.997″
D | 24°32′59.002″ | 81°27′21.000″
A | 24°32′46.834″ | 81°27′17.615″

(viii) Lobster Trap Gear Closed Area 8.

Point | North lat. | West long.
A | 24°33′10.002″ | 81°25′50.995″
B | 24°33′04.000″ | 81°26′18.996″
C | 24°33′17.253″ | 81°26′21.839″
D | 24°33′23.254″ | 81°25′53.838″
A | 24°33′10.002″ | 81°25′50.995″

(ix) Lobster Trap Gear Closed Area 9.

Point | North lat. | West long.
A | 24°33′22.004″ | 81°30′31.998″
B | 24°33′22.004″ | 81°30′41.000″
C | 24°33′29.008″ | 81°30′41.000″
D | 24°33′29.008″ | 81°30′31.998″
A | 24°33′22.004″ | 81°30′31.998″

(x) Lobster Trap Gear Closed Area 10.

Point | North lat. | West long.
A | 24°33′33.004″ | 81°30′00.000″
B | 24°33′33.004″ | 81°30′09.998″
C | 24°33′41.999″ | 81°30′09.998″
D | 24°33′41.999″ | 81°30′00.000″
A | 24°33′33.004″ | 81°30′00.000″

(xi) Lobster Trap Gear Closed Area 11.

Point | North lat. | West long.
A | 24°33′50.376″ | 81°23′35.039″
B | 24°33′27.003″ | 81°24′51.003″
C | 24°33′40.008″ | 81°24′54.999″
D | 24°34′03.382″ | 81°23′39.035″
A | 24°33′50.376″ | 81°23′35.039″

(xii) Lobster Trap Gear Closed Area 12.

Point | North lat. | West long.
A | 24°34′00.003″ | 81°19′29.996″
B | 24°34′00.003″ | 81°20′04.994″
C | 24°34′24.997″ | 81°20′04.994″
D | 24°34′24.997″ | 81°19′29.996″
A | 24°34′00.003″ | 81°19′29.996″

(xiii) Lobster Trap Gear Closed Area 13.

Point | North lat. | West long.
A | 24°35′19.997″ | 81°14′25.002″
B | 24°35′19.997″ | 81°14′34.999″
C | 24°35′29.006″ | 81°14′34.999″
D | 24°35′29.006″ | 81°14′25.002″
A | 24°35′19.997″ | 81°14′25.002″

(xiv) Lobster Trap Gear Closed Area 14.

Point | North lat. | West long.
A | 24°44′37.004″ | 80°46′47.000″
B | 24°44′37.004″ | 80°46′58.000″
C | 24°44′47.002″ | 80°46′58.000″
D | 24°44′47.002″ | 80°46′47.000″
A | 24°44′37.004″ | 80°46′47.000″

(xv) Lobster Trap Gear Closed Area 15.

Point | North lat. | West long.
A | 24°49′53.946″ | 80°38′17.646″
B | 24°48′32.331″ | 80°40′15.530″
C | 24°48′44.389″ | 80°40′23.879″
D | 24°50′06.004″ | 80°38′26.003″
A | 24°49′53.946″ | 80°38′17.646″

(xvi) Lobster Trap Gear Closed Area 16.

Point | North lat. | West long.
A | 24°53′32.085″ | 80°33′22.065″
B | 24°53′38.992″ | 80°33′14.670″
C | 24°53′31.673″ | 80°33′07.155″
D | 24°54′24.562″ | 80°33′14.886″
A | 24°53′32.085″ | 80°33′22.065″

(xvii) Lobster Trap Gear Closed Area 17.

Point | North lat. | West long.
A | 24°53′33.410″ | 80°32′50.247″
B | 24°53′40.149″ | 80°32′42.309″
C | 24°53′32.418″ | 80°32′35.653″
D | 24°54′25.348″ | 80°32′43.302″
A | 24°53′33.410″ | 80°32′50.247″

(xviii) Lobster Trap Gear Closed Area 18.

Point | North lat. | West long.
A | 24°54′06.317″ | 80°32′34.115″
B | 24°53′59.368″ | 80°33′41.542″
C | 24°54′06.667″ | 80°33′48.994″
D | 24°54′13.917″ | 80°32′41.238″
A | 24°54′06.317″ | 80°32′34.115″

(xix) Lobster Trap Gear Closed Area 19.

Point | North lat. | West long.
A | 24°54′06.000″ | 80°31′33.995″
B | 24°54′06.000″ | 80°31′45.002″
C | 24°54′36.006″ | 80°31′45.002″
D | 24°54′36.006″ | 80°31′33.995″
A | 24°54′06.000″ | 80°31′33.995″

(xx) Lobster Trap Gear Closed Area 20.

Point | North lat. | West long.
A | 24°56′21.104″ | 80°28′52.331″
B | 24°56′17.012″ | 80°29′05.995″
C | 24°56′26.996″ | 80°29′08.996″
D | 24°56′31.102″ | 80°28′55.325″
A | 24°56′21.104″ | 80°28′52.331″

(xxi) Lobster Trap Gear Closed Area 21.

Point | North lat. | West long.
A | 24°56′53.006″ | 80°27′46.997″
B | 24°56′21.887″ | 80°28′25.367″
C | 24°56′35.002″ | 80°28′36.003″
D | 24°57′06.107″ | 80°27′57.626″
A | 24°56′53.006″ | 80°27′46.997″

(xxii) Lobster Trap Gear Closed Area 22.

Point | North lat. | West long.
A | 24°57′35.001″ | 80°27′14.999″
B | 24°57′28.011″ | 80°27′21.000″
C | 24°57′33.999″ | 80°27′27.997″
D | 24°57′40.200″ | 80°27′21.106″
A | 24°57′35.001″ | 80°27′14.999″

(xxiii) Lobster Trap Gear Closed Area 23.

Point | North lat. | West long.
A | 24°58′58.154″ | 80°26′03.911″
B | 24°58′48.005″ | 80°26′10.001″
C | 24°58′52.853″ | 80°26′18.090″
D | 24°59′03.002″ | 80°26′11.999″
A | 24°58′58.154″ | 80°26′03.911″

(xxiv) Lobster Trap Gear Closed Area 24.

Point | North lat. | West long.
A | 24°59′17.009″ | 80°24′32.999″
B | 24°58′41.001″ | 80°25′21.998″
C | 24°58′57.591″ | 80°25′34.186″
D | 24°59′33.598″ | 80°24′45.187″
A | 24°59′17.009″ | 80°24′32.999″

(xxv) Lobster Trap Gear Closed Area 25.

Point | North lat. | West long.
A | 24°59′44.008″ | 80°25′38.999″
B | 24°59′27.007″ | 80°25′48.997″
C | 24°59′32.665″ | 80°25′58.610″
D | 24°59′49.666″ | 80°25′48.612″
A | 24°59′44.008″ | 80°25′38.999″

(xxvi) Lobster Trap Gear Closed Area 26.

Point | North lat. | West long.
A | 25°01′00.006″ | 80°21′55.002″
B | 25°01′00.006″ | 80°22′11.996″
C | 25°01′18.010″ | 80°22′11.996″
D | 25°01′18.010″ | 80°21′55.002″
A | 25°01′00.006″ | 80°21′55.002″

(xxvii) Lobster Trap Gear Closed Area 27.

Point | North lat. | West long.
A | 25°01′34.997″ | 80°23′12.998″
B | 25°01′18.010″ | 80°23′44.000″
C | 25°01′22.493″ | 80°23′46.473″
D | 25°01′36.713″ | 80°23′37.665″
E | 25°01′46.657″ | 80°23′19.390″
A | 25°01′34.997″ | 80°23′12.998″

(xxviii) Lobster Trap Gear Closed Area 28.

Point | North lat. | West long.
A | 25°01′38.005″ | 80°21′25.998″
B | 25°01′28.461″ | 80°21′46.158″
C | 25°01′45.009″ | 80°21′53.999″
D | 25°01′54.553″ | 80°21′33.839″
A | 25°01′38.005″ | 80°21′25.998″

(xxix) Lobster Trap Gear Closed Area 29.

Point | North lat. | West long.
A | 25°01′53.001″ | 80°23′08.995″
B | 25°01′53.001″ | 80°23′17.997″
C | 25°02′01.008″ | 80°23′17.997″
D | 25°02′01.008″ | 80°23′08.995″
A | 25°01′53.001″ | 80°23′08.995″

(xxx) Lobster Trap Gear Closed Area 30.

Point | North lat. | West long.
A | 25°02′20.000″ | 80°22′11.001″
B | 25°02′10.003″ | 80°22′50.002″
C | 25°02′22.252″ | 80°22′53.140″
D | 25°02′32.250″ | 80°22′14.138″
A | 25°02′20.000″ | 80°22′11.001″

(xxxi) Lobster Trap Gear Closed Area 31.

Point | North lat. | West long.
A | 25°02′29.503″ | 80°20′30.503″
B | 25°02′16.498″ | 80°20′43.501″
C | 25°02′24.999″ | 80°20′52.002″
D | 25°02′38.004″ | 80°20′38.997″
A | 25°02′29.503″ | 80°20′30.503″

(xxxii) Lobster Trap Gear Closed Area 32.

Point | North lat. | West long.
A | 25°02′34.008″ | 80°21′57.000″
B | 25°02′34.008″ | 80°22′14.997″
C | 25°02′50.007″ | 80°22′14.997″
D | 25°02′50.007″ | 80°21′57.000″
A | 25°02′34.008″ | 80°21′57.000″

(xxxiii) Lobster Trap Gear Closed Area 33.

Point | North lat. | West long.
A | 25°03′11.294″ | 80°21′36.864″
B | 25°03′02.540″ | 80°21′43.143″
C | 25°03′08.999″ | 80°21′51.994″
D | 25°03′17.446″ | 80°21′45.554″
A | 25°03′11.294″ | 80°21′36.864″

(xxxiv) Lobster Trap Gear Closed Area 34.

Point | North lat. | West long.
A | 25°03′30.196″ | 80°21′34.263″
B | 25°03′39.267″ | 80°21′29.506″
C | 25°03′35.334″ | 80°21′19.801″
D | 25°03′26.200″ | 80°21′24.304″
A | 25°03′30.196″ | 80°21′34.263″

(xxxv) Lobster Trap Gear Closed Area 35.

Point | North lat. | West long.
A | 25°03′26.001″ | 80°19′43.001″
B | 25°03′26.001″ | 80°19′54.997″
C | 25°03′41.011″ | 80°19′54.997″
D | 25°03′41.011″ | 80°19′43.001″
A | 25°03′26.001″ | 80°19′43.001″

(xxxvi) Lobster Trap Gear Closed Area 36.

Point | North lat. | West long.
A | 25°07′03.008″ | 80°17′57.999″
B | 25°07′03.008″ | 80°18′10.002″
C | 25°07′14.997″ | 80°18′10.002″
D | 25°07′14.997″ | 80°17′57.999″
A | 25°07′03.008″ | 80°17′57.999″

(xxxvii) Lobster Trap Gear Closed Area 37.

Point | North lat. | West long.
A | 25°07′51.156″ | 80°17′27.910″
B | 25°07′35.857″ | 80°17′37.091″
C | 25°07′43.712″ | 80°17′50.171″
D | 25°07′59.011″ | 80°17′40.998″
A | 25°07′51.156″ | 80°17′27.910″

(xxxviii) Lobster Trap Gear Closed Area 38.

Point | North lat. | West long.
A | 25°08′12.002″ | 80°17′09.996″
B | 25°07′55.001″ | 80°17′26.997″
C | 25°08′04.998″ | 80°17′36.995″
D | 25°08′22.000″ | 80°17′20.000″
A | 25°08′12.002″ | 80°17′09.996″

(xxxix) Lobster Trap Gear Closed Area 39.

Point | North lat. | West long.
A | 25°08′18.003″ | 80°17′34.001″
B | 25°08′18.003″ | 80°17′45.997″
C | 25°08′29.003″ | 80°17′45.997″
D | 25°08′29.003″ | 80°17′34.001″
A | 25°08′18.003″ | 80°17′34.001″

(xl) Lobster Trap Gear Closed Area 40.

Point | North lat. | West long.
A | 25°08′45.002″ | 80°15′50.002″
B | 25°08′37.999″ | 80°15′56.998″
C | 25°08′42.009″ | 80°16′00.995″
D | 25°08′48.999″ | 80°15′53.998″
A | 25°08′45.002″ | 80°15′50.002″

(xli) Lobster Trap Gear Closed Area 41.

Point | North lat. | West long.
A | 25°08′58.007″ | 80°17′24.999″
B | 25°08′58.007″ | 80°17′35.999″
C | 25°09′09.007″ | 80°17′35.999″
D | 25°09′09.007″ | 80°17′24.999″
A | 25°08′58.007″ | 80°17′24.999″

(xlii) Lobster Trap Gear Closed Area 42.

Point | North lat. | West long.
A | 25°09′10.999″ | 80°16′00.000″
B | 25°09′10.999″ | 80°16′09.997″
C | 25°09′20.996″ | 80°16′09.997″
D | 25°09′20.996″ | 80°16′00.000″
A | 25°09′10.999″ | 80°16′00.000″

(xliii) Lobster Trap Gear Closed Area 43.

Point | North lat. | West long.
A | 25°09′28.316″ | 80°17′03.713″
B | 25°09′14.006″ | 80°17′17.000″
C | 25°09′21.697″ | 80°17′25.280″
D | 25°09′36.006″ | 80°17′12.001″
A | 25°09′28.316″ | 80°17′03.713″

(xliv) Lobster Trap Gear Closed Area 44.

Point | North lat. | West long.
A | 25°10′00.011″ | 80°16′06.000″
B | 25°10′00.011″ | 80°16′17.000″
C | 25°10′09.995″ | 80°16′17.000″
D | 25°10′09.995″ | 80°16′06.000″
A | 25°10′00.011″ | 80°16′06.000″

(xlv) Lobster Trap Gear Closed Area 45.

Point | North lat. | West long.
A | 25°10′29.002″ | 80°15′52.995″
B | 25°10′29.002″ | 80°16′04.002″
C | 25°10′37.997″ | 80°16′04.002″
D | 25°10′37.997″ | 80°15′52.995″
A | 25°10′29.002″ | 80°15′52.995″

(xlvi) Lobster Trap Gear Closed Area 46.

Point | North lat. | West long.
A | 25°11′05.998″ | 80°14′25.997″
B | 25°11′05.998″ | 80°14′38.000″
C | 25°11′20.006″ | 80°14′38.000″
D | 25°11′20.006″ | 80°14′25.997″
A | 25°11′05.998″ | 80°14′25.997″

(xlvii) Lobster Trap Gear Closed Area 47.

Point | North lat. | West long.
A | 25°12′00.998″ | 80°13′24.996″
B | 25°11′43.008″ | 80°13′35.000″
C | 25°11′48.007″ | 80°13′44.002″
D | 25°12′06.011″ | 80°13′33.998″
A | 25°12′00.998″ | 80°13′24.996″

(xlviii) Lobster Trap Gear Closed Area 48.

Point | North lat. | West long.
A | 25°12′18.343″ | 80°14′32.768″
B | 25°12′02.001″ | 80°14′44.001″
C | 25°12′07.659″ | 80°14′52.234″
D | 25°12′24.001″ | 80°14′41.001″
A | 25°12′18.343″ | 80°14′32.768″

(xlix) Lobster Trap Gear Closed Area 49.

Point | North lat. | West long.
A | 25°15′23.998″ | 80°12′29.000″
B | 25°15′04.676″ | 80°12′36.120″
C | 25°15′09.812″ | 80°12′50.066″
D | 25°15′29.148″ | 80°12′42.946″
A | 25°15′23.998″ | 80°12′29.000″

(l) Lobster Trap Gear Closed Area 50.

Point | North lat. | West long.
A | 25°16′01.997″ | 80°12′32.996″
B | 25°15′33.419″ | 80°12′52.394″
C | 25°15′44.007″ | 80°13′08.001″
D | 25°16′12.585″ | 80°12′48.597″
A | 25°16′01.997″ | 80°12′32.996″

(li) Lobster Trap Gear Closed Area 51.

Point | North lat. | West long.
A | 25°16′33.006″ | 80°13′30.001″
B | 25°16′33.006″ | 80°13′41.001″
C | 25°16′34.425″ | 80°13′41.026″
D | 25°16′41.850″ | 80°13′37.475″
E | 25°16′42.001″ | 80°13′30.001″
A | 25°16′33.006″ | 80°13′30.001″

(lii) Lobster Trap Gear Closed Area 52.

Point | North lat. | West long.
A | 25°17′04.715″ | 80°12′11.305″
B | 25°16′17.007″ | 80°12′27.997″
C | 25°16′23.997″ | 80°12′47.999″
D | 25°17′11.705″ | 80°12′31.300″
A | 25°17′04.715″ | 80°12′11.305″

(liii) Lobster Trap Gear Closed Area 53.

Point | North lat. | West long.
A | 25°17′23.008″ | 80°12′40.000″
B | 25°17′23.008″ | 80°12′49.997″
C | 25°17′33.005″ | 80°12′49.997″
D | 25°17′33.005″ | 80°12′40.000″
A | 25°17′23.008″ | 80°12′40.000″

(liv) Lobster Trap Gear Closed Area 54.

Point | North lat. | West long.
A | 25°20′57.996″ | 80°09′50.000″
B | 25°20′57.996″ | 80°10′00.000″
C | 25°21′07.005″ | 80°10′00.000″
D | 25°21′07.005″ | 80°09′50.000″
A | 25°20′57.996″ | 80°09′50.000″

(lv) Lobster Trap Gear Closed Area 55.

Point | North lat. | West long.
A | 25°21′45.004″ | 80°09′51.998″
B | 25°21′38.124″ | 80°09′56.722″
C | 25°21′49.124″ | 80°10′12.728″
D | 25°21′56.004″ | 80°10′07.997″
A | 25°21′45.004″ | 80°09′51.998″

(lvi) Lobster Trap Gear Closed Area 56.

Point | North lat. | West long.
A | 25°21′49.000″ | 80°09′21.999″
B | 25°21′49.000″ | 80°09′31.996″
C | 25°21′58.998″ | 80°09′31.996″
D | 25°21′58.998″ | 80°09′21.999″
A | 25°21′49.000″ | 80°09′21.999″

(lvii) Lobster Trap Gear Closed Area 57.

Point | North lat. | West long.
A | 25°24′31.008″ | 80°07′36.997″
B | 25°24′31.008″ | 80°07′48.999″
C | 25°24′41.005″ | 80°07′48.999″
D | 25°24′41.005″ | 80°07′36.997″
A | 25°24′31.008″ | 80°07′36.997″

(lviii) Lobster Trap Gear Closed Area 58.

Point | North lat. | West long.
A | 25°25′14.005″ | 80°07′27.995″
B | 25°25′14.005″ | 80°07′44.001″
C | 25°25′26.008″ | 80°07′44.001″
D | 25°25′26.008″ | 80°07′27.995″
A | 25°25′14.005″ | 80°07′27.995″

(lix) Lobster Trap Gear Closed Area 59.

Point | North lat. | West long.
A | 25°35′13.996″ | 80°05′39.999″
B | 25°35′13.996″ | 80°05′50.999″
C | 25°35′24.007″ | 80°05′50.999″
D | 25°35′24.007″ | 80°05′39.999″
A | 25°35′13.996″ | 80°05′39.999″

(lx) Lobster Trap Gear Closed Area 60.

Point | North lat. | West long.
A | 25°40′57.003″ | 80°05′43.000″
B | 25°40′57.003″ | 80°05′54.000″
C | 25°41′06.550″ | 80°05′53.980″
D | 25°41′18.136″ | 80°05′49.158″
E | 25°41′18.001″ | 80°05′43.000″
A | 25°40′57.003″ | 80°05′43.000″

[FR Doc. 2012-11673 Filed 5-14-12; 8:45 am]

BILLING CODE 3510-22-P